DEPARTMENT OF AGRICULTURE

Forest Service

[EIS No. 20140183]

Extension of Comment Period on the Draft Environmental Impact Statement Tonto National Forest Motorized Travel Management

AGENCY: Forest Service, USDA.

ACTION: Notice of availability; Extension of comment period.

SUMMARY: The Forest Service published a notice of availability in the Federal Register on July 3, 2014 initiating a 45-day comment period on the Draft Environmental Impact Statement for the Toto National Forest Motorized Travel Management plan. The closing date for that 45-day comment period is August 18, 2014. The Agency is extending the comment period; therefore, the comment period has been extended to September 17, 2014.

DATES: Comments must be received by September 17, 2014.

ADDRESSES: Send comments electronically by following the instructions at http://data.ecosystem-management.org/nepaweb/fs-usda-pop.php?project=28967. Comments may also be submitted by electronic mail to comments-southwestern-TMRTonto@fs.fed.us, by mail to Neil Bosworth, Forest Supervisor, ATTN: Travel Management, 2324 E. McDowell Road, Phoenix, AZ 85006, or by or via facsimile (602) 225-5302. This project is an activity implementing a land management plan and subject to the objection process described in 36 CFR part 218 Subparts A and B. It is the responsibility of persons providing comments to submit them by the close of the comment period. Only those who submit timely and specific written comments will have eligibility to file and objection under § 218.8. Individuals and originations wishing to be eligible to object must meet the information requirements in § 218.25(a)(3). Names and contact information submitted with comments will become part of the public record and may be released under the Freedom of Information Act.

When submitting comments, please keep them specific to this project only. Comments which are not specific to the project and project area will be deemed outside the scope of the analysis and will not be considered. If you provide recommendations for changes to routes or areas, please include route numbers or location descriptions, as well as the reasons for your recommendations. If you are including references, citations, or additional information to be considered for this project, please specify exactly how the material relates to the project. Also, indicate exactly what part of the material you would like us to consider (such as page or figure number).

FOR FURTHER INFORMATION CONTACT: Anne Thomas, Tonto National Forest NEPA Coordinator, 2324 E. McDowell Rd, Phoenix, AZ 85006, (602) 225-5213. Individuals who use telecommunication devices for the deaf (TDD) may call the Federal Information Relay Service at (800) 877-8339 between 8:00 a.m. and 8:00 p.m., Eastern Standard Time, Monday through Friday.

SUPPLEMENTARY INFORMATION: For additional information on this project, please visit: http://www.fs.usda.gov/detail/tonto/landmanagement/planning/?cid=fsbdev3_018761.

Dated: August 7, 2014.
Donna J. Sherwood,
Acting Forest Supervisor, Tonto National Forest, Forest Service.

[FR Doc. 2014-19105 Filed 8-14-14; 8:45 am]

BILLING CODE 3411-15-P